DEPARTMENT OF ENERGY

Federal Energy Regulatory Commission

[Project No. 2309-032]

Jersey Central Power & Light Company, PSEG Fossil, LLC, Yards Creek Energy, LLC; Notice of Application for Partial Transfer of License and Soliciting Comments, Motions to Intervene, and Protests

On May 6, 2020, Jersey Central Power & Light Company (JCP&L or transferor) and PSEG Fossil, LLC (PSEG) current co-licensees, and Yards Creek Energy, LLC (YCE or transferee) filed a joint application for a partial transfer of the license for the Yards Creek Pumped Storage Hydroelectric Project No. 2309. The project is located on Yards Creek in Warren County, New Jersey.

The applicants seek Commission approval for a partial transfer of the license for the project to remove JCP&L as a co-licensee and to add YCE as co-licensee.

Applicants Contact: For transferor: Anne M. Rericha, Attorney, FirstEnergy Service Company, 76 S. Maine Street, Akron, Ohio 44308, Phone: (330) 374-6550, Email: arericha@firstenergycorp.com and Morgan E. Parke, Associate General Counsel, FirstEnergy Service Company, 76 S. Maine Street, Akron, Ohio 44308, Phone: (330) 384-4595, Email: mparke@firstenergycorp.com

For co-licensee: Cara J. Lewis, Managing Counsel—Federal Regulatory, PSEG Services Corporation, 80 Park Plaza—T5G, Newark, New Jersey 07102, Phone: (973) 430-8836, Email: cara.lewis@pseg.com

For transferee: Kimberly Ognisty, Winston & Strawn LLC, 1901 L Street NW, Washington, DC 20036, Phone: (202) 282-5217, Email: kognisty@winston.com

FERC Contact: Anumzziatta Purchiaroni, (202) 502-6191, Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior

registration, using the eComment system at http://www.ferc.gov/docs-filing/ecomment.asp. You must include your name and contact information at the end of

your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2309-032.

Dated: May 27, 2020.
Kimberly D. Bose,
Secretary.

[FR Doc. 2020-11868 Filed 6-1-20; 8:45 am]

BILLING CODE 6717-01-P